FEDERAL COMMUNICATIONS COMMISSION

47 CFR Part 25

[IB Docket No. 02-364; FCC 07-194]

Review of the Spectrum Sharing Plan Among Non-Geostationary Satellite Orbit Mobile Satellite Service Systems in the 1.6/2.4 GHz Bands

AGENCY: Federal Communications Commission.

ACTION: Final rule.

SUMMARY: Currently, Globalstar, Inc. (Globalstar) and Iridium Satellite LLC (Iridium) are the two operational providers of Mobile-Satellite Service (MSS) in the 1610-1626.5 MHz band (Big LEO L-band). By this decision, the Federal Communications Commission (Commission) revises the spectrum sharing plan between the two systems. Specifically, the Commission assigns Globalstar exclusive access to the 1610-1617.775 MHz segment of the L-band, assigns Iridium exclusive access to the 1618.725-1626.5 MHz segment, and assigns for sharing between the two MSS providers a small segment of the L-band, at 1617.775-1618.725 MHz.

DATES: Effective: January 14, 2008.

ADDRESSES: Federal Communications Commission, 445 12th Street, SW., Washington, DC 20554.

FOR FURTHER INFORMATION CONTACT: Howard Griboff, 202/418-0657.

SUPPLEMENTARY INFORMATION: The 1610-1626.5 MHz band (Big LEO L-band) and 2483.5-2500 MHz band (Big LEO S-band) was allocated to the Mobile-Satellite Service (MSS) for low-earth orbiting satellites (Big LEOs) in 1994. The Commission assigned the 1610-1621.35 MHz segment in the Earth-to-space (uplink) direction for up to four code division multiple access (CDMA) MSS systems, paired with the 2483.5-2500 MHz band for the four CDMA MSS systems in the space-to-Earth (downlink) direction. The Commission designated the 1621.35-1626.5 MHz segment for a single time division multiple access (TDMA) system (uplink and downlink). Since 1994, only one CDMA system, operated by Globalstar, Inc. (Globalstar), and one TDMA system, operated by Iridium Satellite LLC (Iridium), have launched and operated. In the antecedent Big LEO Spectrum Sharing Order, the Commission reassigned the 1618.25-1621.35 MHz segment of the band, formerly used for MSS solely by Globalstar, for sharing between the two systems. See Review of the Spectrum Sharing Plan Among Non-Geostationary Satellite Orbit Mobile Satellite Service Systems in the 1.6/2.4 GHz Bands; Allocation of Spectrum Below 3 GHz for Mobile and Fixed Services To Support the Introduction of New Advanced Wireless Services, Including Third Generation Wireless Systems (Big LEO Spectrum Sharing Order), 69 FR 48157, Aug. 9, 2004. The Commission also sought comment on sharing an additional 2.25 megahertz of spectrum, at 1616-1618.25 MHz, between the two systems. See Spectrum Sharing Plan Among Non-Geostationary Satellite Orbit Mobile Satellite Service Systems in the 1.6/2.4 GHz Bands (Big LEO Spectrum Sharing Further Notice), 69 FR 48192, Aug. 9, 2004.

Based on the record generated in this proceeding, the Commission revises its prior decision to assign the 1618.25-1621.35 MHz segment for sharing between the two systems. Instead, the Commission reassigns the 1618.725-1621.35 MHz segment to TDMA systems (Iridium) for exclusive use, and requires sharing in a small portion of the L-band, at 1617.775-1618.725 MHz, in order to accommodate the realities of Globalstar's CDMA channel plan. As a result of this action, Globalstar will have exclusive MSS use of 7.775 megahertz of spectrum in the L-band at 1610-1617.775 MHz, Iridium will have exclusive use of 7.775 megahertz of spectrum at 1618.725-1626.5 MHz, and the two MSS operators will share 0.95 megahertz of spectrum at 1617.775-1618.725 MHz. As a result of this decision, the Big LEO Spectrum Sharing Further Notice has become moot. The Commission delegates authority to its International Bureau to modify the MSS licenses of Iridium and Globalstar in accordance with this decision, pursuant to Section 316 of the Communications Act of 1934, as amended, 47 U.S.C. 316.

This Second Order on Reconsideration and Second Report and Order does not contain new or modified information collection requirements subject to the Paperwork Reduction Act of 1995 (PRA), Public Law 104-13. In addition, therefore, it does not contain any new or modified “information collection burden for small business concerns with fewer than 25 employees,” pursuant to the Small Business Paperwork Relief Act of 2002, Public Law 107-198, see 44 U.S.C. 3506(c)(4).

Federal Communications Commission.
Marlene H. Dortch,
Secretary.

[FR Doc. E7-24104 Filed 12-12-07; 8:45 am]

BILLING CODE 6712-01-P